INTERNATIONAL TRADE COMMISSION

[Investigations Nos. 731-TA-1006, 1008, and 1009 (Final)]

Urea Ammonium Nitrate Solutions From Belarus, Russia, and Ukraine

AGENCY: International Trade Commission.

ACTION: Revised schedule for the subject investigations.

EFFECTIVE DATE: November 13, 2002.

FOR FURTHER INFORMATION CONTACT: Larry Reavis (202-205-3185), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS-ON-LINE) at http://dockets.usitc.gov/eol/public.

SUPPLEMENTARY INFORMATION: Effective October 3, 2002, the Commission established a schedule for the conduct of the final phase of the subject investigations (Federal Register of October 23, 2002, p. 65143). Subsequently, the Department of Commerce extended the date for its final determination in the investigations from December 17, 2002, to February 18, 2003 (Federal Register of November 7, 2002, p. 67823). The Commission, therefore, is revising its schedule to conform with Commerce's new schedule. The Commission's new schedule for these investigations is as follows: requests to appear at the hearing must be filed with the Secretary to the Commission not later than February 13, 2003; the prehearing conference, if necessary, will be held at the U.S. International Trade Commission Building at 9:30 a.m. on February 18, 2003; the prehearing staff report will be placed in the nonpublic record on February 6, 2003; the deadline for filing prehearing briefs is February 13, 2003; the hearing will be held at the U.S. International Trade Commission Building at 9:30 a.m. on February 20, 2003; the deadline for filing posthearing briefs is February 27, 2003; the Commission will make its final release of information on March 17, 2003; and final party comments are due on March 19, 2003. For further information concerning these investigations see the Commission's notice cited above and the Commission's rules of practice and procedure, part 201, subparts A through E (19 CFR part 201), and part 207, subparts A and C (19 CFR part 207).

Authority: These investigations are being conducted under authority of title VII of the Tariff Act of 1930; this notice is published pursuant to § 207.21 of the Commission's rules.

Issued: November 14, 2002.
By order of the Commission.
Marilyn R. Abbott,
Secretary to the Commission.

[FR Doc. 02-29436 Filed 11-19-02; 8:45 am]

BILLING CODE 7020-02-P